NUCLEAR REGULATORY COMMISSION

[Project No. 753; NRC-2010-0170]

Notice of Availability of Proposed Models for Plant-Specific Adoption of Technical Specifications Task Force Traveler TSTF-500, Revision 2, “DC Electrical Rewrite—Update to TSTF-360”

AGENCY: Nuclear Regulatory Commission (NRC).

ACTION: Notice of availability.

SUMMARY: As part of the consolidated line item improvement process (CLIIP), the NRC is announcing the availability of the model application (with model no significant hazards consideration determination) and model safety evaluation (SE) for plant-specific adoption of Technical Specifications Task Force (TSTF) Traveler TSTF-500, Revision 2, “DC Electrical Rewrite—Update to TSTF-360” (Agencywide Documents Access and Management System (ADAMS) Accession No. ML092670242). The changes revise Technical Specifications (TS) 3.8.4, “DC Sources Operating,” TS 3.8.5, “DC Sources—Shutdown,” and TS 3.8.6, “Battery Cell Parameters.” Additionally, a new Administrative Controls program, titled “Battery Monitoring and Maintenance Program,” is added to Section 5.5, “Programs and Manuals.” The CLIIP model SE will facilitate expedited approval of plant-specific adoption of Traveler TSTF-500, Revision 2.

You can access publicly available documents related to this notice using the following methods:

NRC's Public Document Room (PDR): The public may examine and have copied for a fee publicly available documents at the NRC's PDR, Room O1 F21, One White Flint North, 11555 Rockville Pike, Rockville, Maryland 20852.

NRC's ADAMS: Publicly available documents created by or received at the NRC are available online in the NRC library at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The model application and SE for plant-specific adoption of TSTF-500, Revision 2, are available electronically under ADAMS Accession Number ML111751792. The NRC staff disposition of comments received to the Notice of Opportunity for Public Comment announced in the Federal Register on May 4, 2010 (75 FR 23822), is available electronically under ADAMS Accession Number ML111751788.

Federal Rulemaking Web site: Public comments and supporting materials related to this notice can be found at http://www.regulations.gov by searching on Docket ID: NRC-2010-0170.

FOR FURTHER INFORMATION CONTACT: Ms. Michelle C. Honcharik, Senior Project Manager, Licensing Processes Branch, Mail Stop: O-12D20, Division of Policy and Rulemaking, Office of Nuclear Reactor Regulation, U.S. Nuclear Regulatory Commission, Washington, DC 20555-0001; telephone 301-415-1774 or e-mail at michelle.honcharik@nrc.gov. For technical questions, please contact Mr. Gerald Waig, Senior Reactor Systems Engineer, Technical Specifications Branch, Mail Stop: O-7 C2A, Division of Inspection and Regional Support, Office of Nuclear Reactor Regulation, U.S. Nuclear Regulatory Commission, Washington, DC 20555-0001; telephone 301-415-2260 or e-mail at gerald.waig@nrc.gov.

SUPPLEMENTARY INFORMATION: TSTF-500, Revision 2, is applicable to all nuclear power reactors. The Traveler modifies the Standard TS requirements related to the DC electrical power systems. Licensees opting to apply for this TS change are responsible for reviewing the NRC staff's model SE, referencing the applicable technical justifications, and providing any necessary plant-specific information. The NRC will process each amendment application responding to this NOA according to applicable NRC rules and procedures.

This CLIIP change does not prevent licensees from requesting an alternate approach or proposing changes other than those proposed in TSTF-500, Revision 2. However, significant deviations from the approach recommended in this notice or the inclusion of additional changes to the license require additional NRC staff review and would not be reviewed as a part of the CLIIP. This may increase the time and resources needed for the review or result in NRC staff rejection of the license amendment request (LAR). Licensees desiring significant deviations or additional changes should instead submit an LAR that does not claim to adopt TSTF-500, Revision 2.

Dated at Rockville, Maryland, this 22nd day of August 2011.
For the Nuclear Regulatory Commission,
John R. Jolicoeur,
Chief, Licensing Processes Branch, Division of Policy and Rulemaking, Office of Nuclear Reactor Regulation.

[FR Doc. 2011-22412 Filed 8-31-11; 8:45 am]

BILLING CODE 7590-01-P